ENVIRONMENTAL PROTECTION AGENCY

40 CFR Part 423

Steam Electric Power Generating Point Source Category

CFR Correction

This rule is being published by the Office of the Federal Register to correct an editorial or technical error that appeared in the most recent annual revision of the Code of Federal Regulations.

In Title 40 of the Code of Federal Regulations, Parts 400 to 424, revised as of July 1, 2022, in section 423.16, duplicate paragraphs (e) and (g) are removed.

[FR Doc. 2023-13557 Filed 6-23-23; 8:45 am]

BILLING CODE 0099-10-P